DEPARTMENT OF AGRICULTURE

Forest Service

Mendocino Resource Advisory Committee

AGENCY: Forest Service, USDA.

ACTION: Notice of meeting.

SUMMARY: The Mendocino County Resource Advisory Committee will meet June 17 2005, (RAC) in Covelo, California. Agenda items to be covered include: (1) Approval of minutes, (2) Public Comment, (3) Sub-committees (4) Discussion—items of interest (5) Next agenda and meeting date.

DATES: The meeting will be held on June 17, 2005, from 9:30 a.m. until day trip is completed.

ADDRESSES: The meeting will be held on the Mendocino National Forest. We will travel the M1 Road for the day looking at various proposed projects along the way.

FOR FURTHER INFORMATION CONTACT: Roberta Hurt, Committee Coordinator, USDA, Mendocino National Forest, Covelo Ranger District, 78150 Covelo Road, Covelo CA 95428. (707) 983-8503; EMAIL rhurt@fs.fed.us

SUPPLEMENTARY INFORMATION: The meeting is open to the public. Persons who wish to bring matters to the attention of the Committee may file written statements with the Committee staff by June 13, 2005. Public comment will have the opportunity to address the committee at the meeting.

Dated: May 20, 2005.
Blaine Baker,
Designated Federal Official.

[FR Doc. 05-10917 Filed 6-1-05; 8:45 am]

BILLING CODE 3410-11-M